ENVIRONMENTAL PROTECTION AGENCY

40 CFR Parts 51 and 52

[EPA-HQ-OAR-2003-0064, FRL-9151-3]

RIN 2060-AP80

Prevention of Significant Deterioration (PSD) and Nonattainment New Source Review (NSR): Aggregation

Correction

Proposed Rule document 2010-11578 was inadvertently published in the Rules and Regulations section of the issue of May 14, 2010, beginning on page 27191. It should have appeared in the Proposed Rules section.

[FR Doc. C1-2010-11578 Filed 5-19-10; 8:45 am]

BILLING CODE 1505-01-D